DEPARTMENT OF HOMELAND SECURITY

Customs and Border Protection

Distribution of Continued Dumping and Subsidy Offset to Affected Domestic Producers

Correction

In notice document 04-12187 beginning on page 31162 in the issue of June 2, 2004, make the following corrections:

1. On page 31208, in the table, under the column heading, “Petitioners/suporters,” in the 13th entry, “Lamb’s Honey FarmLamb’s Honey Farm” should read, “Lamb’s Honey Farm”.

2. On the same page, in the same table, under the same column, in the 17th entry from the bottom, “Talbott;s Honey” should read, “Talbott’s Honey”.

3. On the same page, in the same table, in the same column, in the 5th entry from the bottom, “Wooten Golden Queens” should read, “Wooten’s Golden Queens”.

4. On page 31211, in the table, under the column heading “Petitioners/suporters,” in the 32nd entry, “A.H. Meyers & Sons” should read, “A.H. Meyer & Sons”.

5. On page 31212, in the table, under the column heading “Petitioners/suporters,”, in the fifth entry from the bottom, “Franklin Lumber Co.” should read, “Franklin Timber Co.”.

6. On page 31218, in the table, under the column titled “Petitioners/suporters,”, after the 22nd entry titled “Shuqualak Lumber”, add “ Sierra Forest Products”.

7. On page 31220, in the table, under the column heading, “Petitioners/suporters,”, the third entry, “Electralloy Empire Specialty Steel” should actually be the third and fourth entries: “Electralloy” and “Empire Specialty Steel”.

8. On the same page, in the same table, in the same column, the ninth entry, “Electralloy Empire Specialty Steel” should actually be the ninth and 10th entries: “Electralloy” and “Empire Specialty Steel”.

9. On the same page, in the same table, in the same column, the 15th entry, “Electralloy Empire Specialty Steel” should actually be the 15th and 16th entries: “Electralloy” and “Empire Specialty Steel”.

10. On the same page, in the same table, in the same column, the 21st entry, “Electralloy Empire Specialty Steel” should actually be the 21st and 22nd entries: “Electralloy” and “Empire Specialty Steel”.

[FR Doc. C4-12187 Filed 7-20-04; 8:45 am]

BILLING CODE 1505-01-D